FEDERAL EMERGENCY MANAGEMENT AGENCY

44 CFR Part 65

[Docket No. FEMA-B-7412]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Maricopa | City of Glendale | Mar. 16, 2001, Mar. 23, 2001, Arizona Republic | The Honorable Elaine Scruggs, Mayor, City of Glendale, 5850 West Glendale, Glendale, Arizona 85301 | June 21, 2001 | 040045
Maricopa | City of Peoria | Mar. 15, 2001, Mar. 22, 2001, Arizona Republic | The Honorable John Keegan, Mayor, City of Peoria, 8401 West Monroe Street, Peoria, Arizona 85345 | June 21, 2001 | 040050
Maricopa | City of Peoria | Mar. 16, 2001, Mar. 23, 2001, Arizona Republic | The Honorable John Keegan, Mayor, City of Peoria, 8401 West Monroe Street, Peoria, Arizona 85345 | June 21, 2001 | 040050
Maricopa | Unincorporated Areas | Mar. 15, 2001, Mar. 22, 2001, Arizona Republic | The Honorable Janice K. Brewer, Chairman, Maricopa County Board of Supervisors, 301 West Jefferson, 10th Floor, Phoenix, Arizona 85003 | June 21, 2001 | 040037
California:
Contra Costa | Unincorporated Areas | Feb. 7, 2001, Feb. 14, 2001, Contra Costa Times | The Honorable Gayle B. Uilkema, Chairperson, Contra Costa County Board of Supervisors, c/o Clerk of the Board, 651 Pine Street, Martinez, California 94553 | May 15, 2001 | 060025
Contra Costa | City of Walnut Creek | Feb. 7, 2001, Feb. 14, 2001, Contra Costa Times | The Honorable Kathy Hicks, Mayor, City of Walnut Creek, c/o City Manager, P.O. Box 8039, Walnut Creek, California 94596-8039 | May 15, 2001 | 065070
Sacramento | Unincorporated Areas | Feb. 23, 2001, Mar. 2, 2001, Sacramento Bee | The Honorable Roger Neillo, Chairman, Sacramento County, Board of Supervisors, 700 H Street, Room 2450, Sacramento, California 95814 | Jan. 30, 2001 | 060262
Ventura | City of Simi Valley | Mar. 9, 2001, Mar. 16, 2001, Ventura County Star | The Honorable Bill Davis, Mayor, City of Simi Valley, 2929 Tapo Canyon Road, Simi Valley, California 93063 | Feb. 20, 2001 | 060421
Colorado:
Boulder | City of Longmont | Jan. 18, 2001, Jan. 25, 2001, Longmont Daily Times Call | The Honorable Leona Stoecker, Mayor, City of Longmont, 350 Kimbark Street, Longmont, Colorado 80501 | Apr. 25, 2001 | 080027
El Paso | Unincorporated Areas | Feb. 16, 2001, Feb. 23, 2001, The Gazette | The Honorable Charles C. Brown, Chairman, El Paso County Board of Commissioners, 27 East Vermijo Avenue, Third Floor, Colorado Springs, Colorado 80903-2208 | May 24, 2001 | 080059
Jefferson | City of Golden | Jan. 31, 2001, Feb. 7, 2001, Golden Transcript | The Honorable Jan C. Schenck, Mayor, City of Golden, 911 10th Street, Golden, Colorado 80401 | May 3, 2001 | 080090
Jefferson | Unincorporated Areas | Feb. 1, 2001, Feb. 8, 2001, High Timber Times | The Honorable Michelle Lawrence, Chairperson, Jefferson County Board of Commissioners, 100 Jefferson County Parkway, Suite 5550, Golden, Colorado 80419 | May 3, 2001 | 080087
Jefferson | Unincorporated Areas | Feb. 22, 2001, Mar. 1, 2001, High Timber Times | The Honorable Michelle Lawrence, Chairperson, Jefferson County Board of Commissioners, 100 Jefferson County Parkway, Suite 5550, Golden, Colorado 80419 | Jan. 30, 2001 | 080087
Jefferson | Unincorporated Areas | Mar. 1, 2001, Mar. 8, 2001, High Timber Times | The Honorable Michelle Lawrence, Chairperson, Jefferson County Board of Commissioners, 100 Jefferson County Parkway, Suite 5550, Golden, Colorado 80419 | June 6, 2001 | 080087
La Plata | Unincorporated Areas | Feb. 10, 2001, Feb. 16, 2001, Durango Herald | The Honorable Bob Lieb, La Plata County Commissioner, District 2, 1060 East Second Avenue, Durango, Colorado 81301 | May 19, 2001 | 080097
Idaho: Twin Falls | City of Twin Falls | Mar. 8, 2001, Mar. 15, 2001, Twin Falls Times News | The Honorable Elaine Steel, Mayor, City of Twin Falls, P.O. Box 1907, Twin Falls, Idaho 83303-1907 | June 13, 2001 | 160120
Oregon: Jackson | City of Central Point | Feb. 22, 2001, Mar. 1, 2001, Medford Mail Tribune | The Honorable Bill Walton, Mayor, City of Central Point, 155 South Second Street, Central Point, Oregon 97502 | July 24, 2001 | 410092
Oklahoma: Oklahoma | City of Oklahoma City | Feb. 16, 2001, Feb. 23, 2001, Daily Oklahoman | The Honorable Kirk Humphreys, Mayor, City of Oklahoma City, 200 North Walker, Suite 302, Oklahoma City, Oklahoma 73102 | May 24, 2001 | 405378
Texas:
Collin | City of Allen | Feb. 21, 2001, Feb. 28, 2001, Allen American | The Honorable Steve Terrell, Mayor, City of Allen, One Butler Circle, Allen, Texas 75013 | Jan. 25, 2001 | 480131
Collin | City of Celina | Feb. 7, 2001, Feb. 14, 2001, Celina Record | The Honorable Mark Peterman, Mayor, City of Celina, 302 West Walnut, Celina, Texas 75009 | May 16, 2001 | 480133
Collin | City of Plano | Feb. 14, 2001, Feb. 21, 2001, Plano Star Courier | The Honorable Jeran Akers, Mayor, City of Plano, P.O. Box 860358, Plano, Texas 75086-0358 | Jan. 25, 2001 | 480140
Collin | Unincorporated Areas | Feb. 8, 2001, Feb. 15, 2001, McKinney Daily Courier-Gazette | The Honorable Ron Harris, Collin County Judge, 210 South McDonald Street, McKinney, Texas 75069 | May 16, 2001 | 480130
Dallas | City of Coppell | Feb. 16, 2001, Feb. 23, 2001, Coppell Gazette | The Honorable Candy Sheehan, Mayor, City of Coppell, 255 Parkway Boulevard, Coppell, Texas 75019 | May 23, 2001 | 480170
Travis | City of Austin | Mar. 2, 2001, Mar. 9, 2001, Austin American Statesman | The Honorable Kirk P. Watson, Mayor, City of Austin, 124 West Eighth Street, Austin, Texas 78701 | Feb. 12, 2001 | 480624
Williamson | City of Leander | Feb. 21, 2001, Feb. 28, 2001, Hill Country News | The Honorable Larry Barnett, Mayor, City of Leander, P.O. Box 319, Leander, Texas 78646 | Jan. 24, 2001 | 481536

(Catalog of Federal Domestic Assistance No. 83.100, “Flood Insurance”)
Dated: April 18, 2001.
Margaret E. Lawless,
Acting Executive Associate Director for Mitigation.

[FR Doc. 01-10486 Filed 4-26-01; 8:45 am]

BILLING CODE 6718-04-P